NATIONAL AERONAUTICS AND SPACE ADMINISTRATION

[Notice (03-062)]

Privacy Act: Report of New System

AGENCY: National Aeronautics and Space Administration (NASA).

ACTION: Notice of New System of Records.

SUMMARY: Each Federal agency is required by the Privacy Act of 1974 to publish description of the systems of records it maintains containing personal information when a system is substantially revised, deleted, or created. In this notice, NASA provides the required information for a new system of records related to NASA's Integrated Financial Management Program (IFMP) Core Financial System. This new system will improve NASA's financial management systems in accordance with the requirements set forth in the Chief Financial Officers Act of 1990 and the Federal Financial Management Improvement Act of 1996.

DATES: Effective date: June 12, 2003. Submit comments on or before July 14, 2003.

ADDRESSES: Send comments to Office of the Chief Information Officer, Code AO, NASA Headquarters, 300 E Street SW., Washington, DC 20546-0001.

FOR FURTHER INFORMATION CONTACT: Patti F. Stockman, 202-358-4787.

NASA 10IMF1

System Name:

Integrated Financial Management (IFM) Program—Core Financial System.

Security Classification:

This system is categorized in accordance with OMB Circular A-11 as a Special Management Attention Major Information System. A security plan for this system has been established in accordance with OMB Circular A-130, Management of Federal Information Resources.

System Location:

George C. Marshall Space Flight Center, National Aeronautics and Space Administration, Marshall Space Flight Center, AL 35812

Categories of individuals covered by the System:

Individuals covered by the NASA Core Financial (CF) System include former and current NASA employees and nonNASA individuals requiring any type of payment.

Categories of records in the system:

Records in this system may include information about the individuals including Social Security Number (Tax Identification Number), home address, telephone number, e mail address, and bank account information.

Authority for maintenance of the system:

National Aeronautics and Space Act of 1958, et seq. as amended. 42 U.S.C. 2473 (2003); Federal Records Act, 44 U.S.C. 3101 (2003); Chief Financial Officers Act of 1990 205(a), 31 U.S.C. 901 (2003); Financial Management Improvement Act of 1996 802, 31 U.S.C. 3512 (2003).

Routine uses of records maintained in the system, including categories of users and the purpose of such uses:

The following are routine uses: (1) Furnish data to the Department of Treasury for financial reimbursement of individual expenses, such as travel, books, and other miscellaneous items; (2) Process payments and collections in which an individual is reimbursing the Agency; (3) Ongoing administration and maintenance of the records, which is performed by authorized NASA employees, both civil servants and contractors; and (4) Standard routine uses 1 through 4 inclusive as set forth in Appendix B—STANDARD ROUTINE USES—NASA.

Policies and practices for storing, retrieving, accessing, retaining, and disposing of records in the system:

Storage:

Stored as electronic media.

Retrievability:

Records may be searched by name or SSN (Tax ID).

Safeguards:

An approved security plan for this system has been established in accordance with OMB Circular A-130, Management of Federal Information Resources. Individuals will have access to the system only in accordance with approved authentication methods. Only key authorized employees with appropriately configured system roles can access the system and only from workstations within the NASA Intranet.

Retention and disposal:

Records are stored in the IFM database and managed, retained and dispositioned in accordance with the guidelines defined in the NASA Procedure & Guidelines (NPG) 1441.1D, NASA Records Retention Schedules, Schedule 9.

System manager(s) and address:

AD04/Manager of the IFMP Competency Center, George C. Marshall Space Flight Center, National Aeronautics and Space Administration, Marshall Space Flight Center, AL 35812

Notification procedure:

Individuals interested in inquiring about their records should notify the System Manager at the address given above.

Record access procedure:

Individuals who wish to gain access to their records should submit their request in writing to the System Manager at the address given above.

Contesting record procedures:

The NASA regulations governing access to records, procedures for contesting the contents and for contesting the contents and for appealing initial determinations are set forth in 14 CFR part 1212.

Record source categories:

The information is received by the IFMP Core Financial System through an electronic interface from the NASA Personnel Payroll System (NPPS). In certain circumstances, updates to this information may be submitted by NASA employees and recorded directly into the IFMP Core Financial System.

Bobby German,
Deputy Program Director.

[FR Doc. 03-14053 Filed 6-11-03; 8:45 am]

BILLING CODE 7510-01-P